DEPARTMENT OF STATE

[Public Notice 7947]

30-Day Notice of Proposed Information Collection: DS-158, Contact Information and Work History for Nonimmigrant Visa Applicant

ACTION: Notice of request for public comment and submission to OMB of proposed collection of information.

SUMMARY: The Department of State has submitted the following information collection request to the Office of Management and Budget (OMB) for approval in accordance with the Paperwork Reduction Act of 1995.

• Title of Information Collection: Contact Information and Work History for Nonimmigrant Visa Applicant.

• OMB Control Number: 1405-0144.

• Type of Request: Extension of a Currently Approved Collection.

• Originating Office: CA/VO/L/R.

• Form Number: DS-158.

• Respondents: Nonimmigrant Visa Applicants.

• Estimated Number of Respondents: 10,000.

• Estimated Number of Responses: 10,000.

• Average Hours per Response: 1 hour.

• Total Estimated Burden: 10,000 hours.

• Frequency: One Time per visa application.

• Obligation to Respond: Required to Obtain or Retain a Benefit.

DATES: Submit comments to the Office of Management and Budget (OMB) for up to 30 days from July 10, 2012.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from Sydney Taylor, Visa Services, U.S. Department of State, 2401 E Street NW., L-603, Washington, DC 20520-0106, who may be reached on (202) 663-3721.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

This form collects contact information, current employment information, and previous work experience information from aliens applying for nonimmigrant visas to enter the United States. The information collected is necessary to determine eligibility for certain visa classifications.

Methodology

If the DS-160 is inaccessible, applicants can go online and complete the DS-158, print it out, and submit it along with the DS-156. If applicants are requested to submit the DS-158 after the submission of the DS-160, applicants are then required to either fill out the form by hand or online, print the form and submit in person at the time of the scheduled interview.

Dated: June 28, 2012.
Edward Ramatowski,
Managing Director, Visa Services, Bureau of Consular Affairs, Department of State.

[FR Doc. 2012-16848 Filed 7-9-12; 8:45 am]

BILLING CODE 4710-06-P